DEPARTMENT OF THE INTERIOR

Bureau of Indian Affairs

[189A2100DD/AAKC001030/A0A501010.999900 253G]

Bureau of Indian Education Strategic Plan

AGENCY: Bureau of Indian Affairs, Interior.

ACTION: Notice of tribal consultations.

SUMMARY: Notice is hereby given that the Bureau of Indian Education (BIE) will conduct a series of consultation sessions regarding its proposed strategic plan. The BIE will conduct five on-site tribal consultation sessions and one telephonic session. The on-site consultation sessions will be held at geographically diverse locations across the country to maximize Tribal input early in the process. The telephonic session will be held on December 14, 2017.

DATES: The BIE will conduct the following five on-site consultation sessions and one telephonic consultation. The on-site sessions will be held:

1. Wednesday November 15, 2017, in Salem, OR from 1:00 p.m.-5:00 p.m. PST.

2. Tuesday November 28, 2017, in Anadarko, OK from 1:00 p.m.-5:00 p.m. CST.

3. Tuesday December 5, 2017, in Bismarck, ND from 1:00 p.m.-5:00 p.m. MDT.

4. Tuesday December 12, 2017, in Albuquerque, NM from 1:00 p.m.-5:00 p.m. MDT.

The last session will be held telephonically and by webinar on Thursday December 14, 2017, by calling 631-992-3221 and entering the passcode 759-763-471. The Web site for the webinar is https://attendee.gotowebinar.com/register/7727750735595699458, and the webinar ID is 993-210-731. This session can accommodate 500 participants.

ADDRESSES: The on-site sessions will be held at the following locations:

• Wednesday November 15, 2017, on-site consultation session will be held at Chemawa Indian School Auditorium, 3700 Chemawa Road NE., Salem, OR 97305

• Tuesday November 28, 2017, on-site consultation session will be held at Riverside Indian School, 101 Riverside Drive, Anadarko, OK 73005

• Tuesday December 5, 2017, on-site consultation session will be held at United Tribes Technical College, Lewis Goodhouse Wellness Center, 3315 University Drive, Bismarck, ND 58504

• Tuesday December 12, 2017, on-site consultation session will be held at the National Indian Programs Training Center, 1011 Indian School Road NW., Albuquerque, NM 87104

The draft strategic plan will be available at: https://www.bie.edu/consultation/index.htm. Send written comments to Ms. Paulina Bell, Bureau of Indian Education, by any of the following methods: (Preferred method) email: paulina.bell@bie.edu; mail, hand-carry or use an overnight courier service to Bureau of Indian Education, ATTN: Ms. Paulina Bell, RE: BIE Draft Strategic Plan Consultation Comments, 1849 C Street NW., Mail Stop 3609, Washington, DC 20240.

FOR FURTHER INFORMATION CONTACT: Ms. Paulina Bell, Bureau of Indian Education; telephone: (202) 208-3479.

SUPPLEMENTARY INFORMATION: The BIE is committed to improving and enhancing its service delivery and improving the education of Indian students served by BIE-funded schools. The BIE is developing a bureau-wide strategic plan to guide its work and service delivery to students, schools, and tribes. To that end, the BIE recently engaged its staff in a process of strategic performance planning with the intention of submitting the proposed draft strategic plan for collaborative and meaningful consultation with Tribes early in the process.

On March 8, 2017, April 11, 2017, June 14, 2017, July 18-20, 2017, and August 29-30, 2017, the BIE convened local, regional, and central office BIE personnel in order to formulate proposed strategic plan vision, mission, and organizational values statements as well as goals and strategies to implement the goals in the planning process.

In order to ensure that its strategic planning efforts result in a high quality, effective, and useful plan, BIE partnered with external subject matter expert organizations specializing in educational strategic performance planning, including the Council of Chief State School Officers (CCSSO), the South Central Comprehensive Center located at the University of Oklahoma (SC3), and the Building State Capacity and Productivity Center (BSCPC). These organizations are providing BIE with valuable technical subject matter expertise and shared best practices in developing an effective, five-year strategic plan proposal with which to engage tribes in meaningful and timely consultation.

BIE emphasizes that it is early in the strategic planning process and views the proposed strategic plan as a useful draft document that will assist Tribes in affording meaningful and substantive input during the scheduled consultation sessions. BIE earnestly appreciates and values any constructive input regarding its draft strategic plan and invites tribes, tribal leaders, and/or their designees to consult on the proposed plan during the aforementioned meetings.

Dated: October 11, 2017.
Tony Dearman,
Director, Bureau of Indian Education.

[FR Doc. 2017-22446 Filed 10-16-17; 8:45 am]

BILLING CODE 4337-15-P